DEPARTMENT OF ENERGY

Federal Energy Regulatory Commission

Combined Notice of Filings

Take notice that the Commission has received the following Natural Gas Pipeline Rate and Refund Report filings:

Docket Numbers: CP20-42-000.

Applicants: Tennessee Gas Pipeline Company, L.L.C.

Description: Abbreviated Application to Abandon Transportation and Compression Service of Tennessee Gas Pipeline Company, L.L.C.

Filed Date: 1/15/20.

Accession Number: 20200115-5177.

Comments Due: 5 p.m. ET 2/5/20.

Docket Numbers: RP19-1353-006.

Applicants: Northern Natural Gas Company.

Description: Compliance filing 20200121 Market-Based-Rate Adjustment to be effective 1/1/2020.

Filed Date: 1/21/20.

Accession Number: 20200121-5033.

Comments Due: 5 p.m. ET 2/3/20.

Docket Numbers: RP20-442-000.

Applicants: Gulf South Pipeline Company, LLC.

Description: § 4(d) Rate Filing: Filing to Incorporate Approved Changes and Correct Priority Codes to be effective 1/21/2020.

Filed Date: 1/21/20.

Accession Number: 20200121-5025.

Comments Due: 5 p.m. ET 2/3/20.

Docket Numbers: RP20-443-000.

Applicants: Pixelle Specialty Solutions LLC, Verso Minnesota Wisconsin LC, Verso Androscoggin LLC.

Description: Joint Petition for Temporary Waiver of Commission Capacity Release Regulations and Policies, et al. of Pixelle Specialty Solutions LLC, et al. under RP20-443.

Filed Date: 1/17/20.

Accession Number: 20200117-5251.

Comments Due: 5 p.m. ET 1/29/20.

Docket Numbers: RP20-444-000.

Applicants: Rockies Express Pipeline LLC.

Description: § 4(d) Rate Filing: REX 2020-01-21 Negotiated Rate Agreement to be effective 1/22/2020.

Filed Date: 1/21/20.

Accession Number: 20200121-5074.

Comments Due: 5 p.m. ET 2/3/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2020.
Nathaniel J. Davis, Sr.,
Deputy Secretary.

[FR Doc. 2020-01442 Filed 1-27-20; 8:45 am]

BILLING CODE 6717-01-P